DEPARTMENT OF STATE

[Public Notice: 6959]

Notice of Availability of the Draft Environmental Impact Statement for the Proposed TransCanada Keystone XL Pipeline Project

April 16, 2010.

AGENCY: Department of State.

ACTION: Notice of Availability of the Draft Environmental Impact Statement (EIS) for the Proposed TransCanada Keystone XL Pipeline Project.

SUMMARY: The Department of State (DOS) has prepared a draft Environmental Impact Statement (EIS) for the Proposed TransCanada Keystone XL Pipeline Project. On September 19, 2008, TransCanada Keystone Pipeline, LP (Keystone) filed an application for a Presidential permit for the construction, operation, and maintenance of pipeline facilities at the border of the U.S. and Canada for the transport of crude oil across the U.S.-Canada international boundary. The Secretary of State is designated and empowered to receive all applications for Presidential permits, as referred to in Executive Order 13337, as amended, for the construction, connection, operation, or maintenance, at the borders of the United States, of facilities for the exportation or importation of petroleum, petroleum products, coal, or other fuels to or from a foreign country. Keystone has requested authorization to construct and operate border crossing facilities at the U.S.-Canadian border in Phillips County, near Morgan, Montana, in connection with its proposed international pipeline project (the Keystone XL Pipeline Project) that is designed to transport Canadian crude oil production from the Western Canadian Sedimentary Basin (WCSB) to destinations in the south central United States, including to an existing oil terminal in Cushing, Oklahoma, and to existing delivery points in the Port Arthur and East Houston areas of Texas.

SUPPLEMENTARY INFORMATION: The draft EIS was prepared consistent with the requirements of the National Environmental Policy Act (NEPA) and evaluates the potential environmental impacts of the proposed pipeline project. The draft EIS was also prepared consistent with the requirements of the Montana Environmental Policy Act (MEPA) and the Montana Major Facility Siting Act (MFSA). The draft EIS evaluates alternatives to the proposal, including system alternatives and pipeline route alternatives.

The Federal and State agencies that are serving as Cooperating Agencies in the development of the EIS include: U.S. Environmental Protection Agency; U.S. Department of the Interior—Bureau of Land Management (BLM), National Park Service, and U.S. Fish and Wildlife Service; U.S. Department of Agriculture—Natural Resources Conservation Service, Farm Service Agency, and Rural Utilities Service; U.S. Army Corps of Engineers; U.S. Department of Energy, Western Area Power Administration; U.S. Department of Transportation, Pipeline and Hazardous Materials Safety Administration, Office of Pipeline Safety; and Montana Department of Environmental Quality (MDEQ). Cooperating agencies either have jurisdiction by law or special expertise with respect to the environmental impacts assessed in connection with the proposal and are participating with the DOS in analysis of those environmental impacts.

BLM has authority to issue right-of-way (ROW) grants for all affected Federal lands under the Mineral Leasing Act (MLA) of 1920, as amended (30 U.S.C 181 et seq.) excluding National Park Service lands and the public lands BLM administers under the Federal Land Policy and Management Act of 1976. BLM will consider the issuance of a new ROW grant and issuance of associated temporary use permits that would apply to BLM-managed lands crossed by the Keystone XL Project, as well as all other Federal lands affected. Conformance with land use plans and impacts on resources and programs will be considered in determining whether or not to issue a ROW grant. BLM staff is participating in agency meetings and assisting Keystone with routing across BLM lands.

BLM's purpose and need in preparing an EIS under NEPA for the proposed Keystone XL Project is to approve, approve with modification, or deny Keystone's application under section 28 of the MLA, as amended, for a ROW grant to construct, operate, and decommission a crude oil pipeline and related facilities on public Federal lands in the United States. The proposed ROW action appears consistent with approved BLM land use planning. For the decision to be made, BLM will decide whether or not to grant a ROW across Federal lands, and if so, under what terms and conditions.

The draft EIS addresses the potential environmental effects of the construction and operation of the United States portion of the Keystone XL Pipeline Project. The Keystone XL Project initially would have nominal transport capacity of 700,000 barrels per day (bpd) of crude oil, with up to 200,000 bpd delivered to an existing terminal in Cushing, Oklahoma and the remaining amount shipped to existing delivery points in Nederland (near Port Arthur), Texas, and Moore Junction (in Harris County), Texas. According to Keystone, additional pumping capacity could be added to increase the average throughput to 900,000 bpd, if warranted by future shipper demand and market conditions, with the additional 200,000 bpd transported to delivery points in the U.S. Gulf Coast. In total, the Project would consist of approximately 1,707 miles of new, 36-inch-diameter pipeline, with approximately 327 miles of pipeline in Canada and 1,380 miles in the U.S.

In Canada, Keystone filed an application on February 27, 2009, with the National Energy Board (NEB) requesting approval to construct and operate the Canadian portion of the Keystone XL Pipeline. NEB conducted oral public hearings from September 15-18, September 21-25, and October 1-2, 2009, for a total of 11 hearing days. Appropriate regulatory authorities in Canada conducted an independent environmental review process for the proposed Canadian facilities. As a Responsible Authority under the Canadian Environmental Assessment (CEA) Act, the NEB completed an Environmental Screening Report (ESR) pursuant to the CEA Act. On March 11, 2010, the NEB released its Reasons for Decision approving the application by Keystone. The ESR was included as an appendix to the NEB Reasons for Decision document.

The draft EIS prepared by the DOS describes and evaluates the U.S. portion of the proposed Keystone XL Project. Keystone intends to construct the 36-inch-diameter pipelines within a 110-foot-wide corridor, consisting of a temporary 60-foot-wide construction ROW and a 50-foot-wide permanent ROW. The Keystone XL Project would require construction of pump stations, pigging (cleaning) facilities, delivery facilities, and densitometer sites (for detection of crude oil batch interfaces). Mainline valves (MLVs) would be placed along the pipeline at locations necessary to maintain adequate flow through the pipeline. Keystone has advised DOS that valves would be installed and located as dictated by the hydraulic characteristics of the pipeline and as required by Federal regulations, with the intent to provide for public safety and environmental protection as part of pipeline integrity management practices. The electrical pumps at the Project pump stations would require power delivery through electrical power distribution lines and associated substations as appropriate. Although these facilities would be constructed by other entities that would be responsible for obtaining any necessary Federal, State, and local approvals or authorizations, the construction and operation of these facilities are considered connected actions under NEPA and therefore are considered within this draft EIS. Additionally, the power requirements for several pump stations in South Dakota at full pipeline throughput would require construction and operation of a new 230-kv electrical transmission line to support regional power grid system reliability. A portion of this transmission line would be constructed by Western Area Power Administration and a portion would be constructed by Basin Electric Power Cooperative. These are both considered connected actions under NEPA and are therefore considered within this draft EIS.

U.S. counties that could possibly be affected by construction of the proposed pipeline are:

• Montana: Phillips, Valley, McCone, Dawson, Prairie, Fallon

• South Dakota: Harding, Butte, Perkins, Meade, Pennington, Haakon, Jones, Lyman, Tripp

• Nebraska: Keya Paha, Rock, Holt, Garfield, Wheeler, Greeley, Boone, Nance, Merrick, Hamilton, York, Fillmore, Saline, Jefferson

• Kansas: Clay, Butler

• Oklahoma: Atoka, Bryan, Coal, Creek, Hughes, Lincoln, Okfuskee, Payne, Seminole

• Texas: Angelina, Cherokee, Delta, Fannin, Franklin, Hardin, Hopkins, Jefferson, Lamar, Liberty, Nacogdoches, Polk, Rusk, Smith, Upshur, Wood, Chambers, Harris

Comment Procedures and Public Meetings: Any person wishing to comment on the draft EIS may do so. To ensure consideration prior to issuance of the final EIS (a prerequisite to a DOS decision on the proposal), it is important that we receive your comments by no later than May 31, 2010.

Options for submitting comments on the Draft EIS are as follows:

• By mail to: Elizabeth Orlando, Keystone XL Project Manager, US Department of State, OES/ENV Room 2657, Washington, DC 20520. Please note that Department of State mail can be delayed due to security screening.

• Fax to: (202) 647-1052, attention Elizabeth Orlando.

• E-mail to: xlpipelineproject@state.gov.

• Comment over the internet via the Keystone XL EIS Web site: http://www.keystonepipeline-xl.state.gov.

Comments received will be included in the public docket without change and may be made available on-line at http:// www.keystonepipeline-xl.state.gov, including any personal information provided, unless the commenter indicates that the comment includes information claimed to be Confidential Business Information (CBI) or other information whose disclosure is restricted by statute.

Do not submit information that you consider to be CBI, or otherwise protected, through e-mail. If you send a comment by e-mail, your e-mail address will be automatically captured and included as part of the comment that is placed in the public docket and made available on the Internet. If you submit an electronic comment, we recommend that you include your name and other contact information in the body of your comment and with any disk or CD-ROM you submit. If we cannot read your comment because of technical difficulties and cannot contact you for clarification, we may not be able to consider your comment. Electronic comments should avoid the use of any special characters, any form of encryption, and be free of any defects or viruses.

In addition to or in lieu of sending written comments, DOS invites you to attend the public meetings listed below that are intended to allow officers from DOS and the Cooperating Agencies to receive comments on the draft EIS. The public meetings will be conducted in a workshop style. A court reporter will be present and will accept oral comments for the record, which carry the same validity as written comments, and will also be addressed in the final EIS. The meetings in Montana will be considered official hearings in accordance with MEPA guidelines. Dates and locations for the public meetings are:

• Monday, May 3, 2010, 7 to 9 p.m., Durant, Oklahoma, Holiday Inn Express Hotel, 613 University Pl., Durant, OK 74701.

• Tuesday, May 4, 2010, 7 to 9 p.m., Stroud, Oklahoma, Best Western Stroud Motor Lodge, 1200 N. 8th Avenue, Stroud, OK 74079.

• Wednesday, May 5, 2010, 7 to 9 p.m., El Dorado, Kansas, Holiday Inn Express Hotel, 3100 El Dorado Avenue, El Dorado, KS 67042.

• Thursday, May 6, 2010, 12 to 2 p.m., Fairbury, Nebraska, Rock Island Railroad Depot, 910 Second Street, Fairbury, NE 68352.

• Monday, May 10, 2010, 7 to 9 p.m., York, Nebraska, York Auditorium, 211 E. 7th Street, York, NE, 68467.

• Tuesday, May 11, 2010, 7 to 9 p.m., Atkinson, Nebraska, Atkinson Community Center, 206 W. 5th Street, Atkinson, NE 68713.

• Wednesday, May 12, 2010, 7 to 9 p.m., Murdo, South Dakota, Triple H Restaurant (Interstate 90, Exit 192), 601 5 Street, Murdo, SD 57559.

• Thursday, May 13, 2010, 12 to 2 p.m., Faith, South Dakota, Community Legion Hall, Main Street, Faith, SD 57626.

• Thursday, May 13, 2010, 7 to 9 p.m., Buffalo, South Dakota, Harding County Memorial Recreation Center, 204 Hodges Street, Buffalo, SD 57720.

• Monday, May 17, 2010, 7 to 9 p.m., Beaumont, Texas, American Legion Hall #817, 3430 West Cardinal Drive, Beaumont, TX 77705.

• Tuesday, May 18, 2010, 7 to 9 p.m., Liberty, Texas, VFW Hall, 1520 North Main Street, Liberty, TX 77575.

• Wednesday, May 19, 2010, 7 to 9 p.m., Livingston, Texas, Livingston Junior High School, 1801 Highway 59 Loop North, Livingston, TX 77351.

• Thursday, May 20, 2010, 7 to 9 p.m., Tyler, Texas, Ramada Hotel and Conference Center, 3310 Troup Highway SE. Loop 323 & Highway 110 North, Tyler, TX 75701.

• Monday, May 17, 2010, 7 to 9 p.m., Malta, Montana, Great Northern Hotel, 2 South 1st Street East, Malta, MT 59538.

• Tuesday, May 18, 2010, 12 to 2 p.m., Glasgow, Montana Cottonwood Inn and Suites, Highway 2 East, Glasgow, MT 59230.

• Tuesday, May 18, 2010, 7 to 9 p.m., Terry, Montana Terry High School, 215 East Park, Terry, MT 59349.

• Wednesday, May 19, 2010, 12 to 2 p.m., Circle, Montana, Schmidt Super Value, 105 10th Street, Circle, MT 59215.

• Wednesday, May 19, 2010, 7 to 9 p.m., Glendive, Montana, Dawson Community College, 300 College Drive, Glendive, MT 59330.

• Thursday, May 20, 2010, 12 to 2 p.m., Baker, Montana, Thee Garage and Steakhouse, 19 West Montana Avenue, Baker, MT 59313.

Any significant new issues that are identified within the comment period will be analyzed and the draft EIS will be modified as appropriate. A final EIS will then be published and distributed by DOS and the Cooperating Agencies. The final EIS will contain the DOS responses to timely comments received on the draft EIS, including oral comments received during public meetings, and will also contain MDEQ responses to timely comments as required under MEPA. Copies of the draft EIS have been mailed to interested Federal, State and local agencies; public interest groups; individuals and affected landowners who requested a copy of the draft EIS or who provided comments during the scoping process; libraries; newspapers; and other stakeholders.

FOR FURTHER INFORMATION CONTACT: The TransCanada Keystone Pipeline application for a Presidential Permit, including associated maps and drawings; the draft EIS; a list of libraries where the draft EIS may be viewed; and other project information are available for viewing and download at the project Web site: http://www.keystonepipeline-xl.state.gov.

For information on the proposed project or the draft EIS contact Elizabeth Orlando, OES/ENV Room 2657, U.S. Department of State, Washington, DC, 20520, or by telephone (202) 647-4284, or by fax at (202) 647-1052.

Issued in Washington, DC, on April 16, 2010.
Willem Brakel,
Director, Bureau of Oceans and International Environmental and Scientific Affairs/Office of Environmental Policy, Department of State.

[FR Doc. 2010-9075 Filed 4-19-10; 8:45 am]

BILLING CODE 4710-07-P